FEDERAL COMMUNICATIONS COMMISSION

[WT Docket No. 08-165; DA 09-2629]

Wireless Telecommunications Bureau Seeks Comment on Petition for Reconsideration or Clarification of the Commission's Declaratory Ruling Clarifying Provisions in Section 332(c)(7) of the Communications Act

AGENCY: Federal Communications Commission.

ACTION: Notice.

SUMMARY: In this document, comment is sought on a December 17, 2009 petition for reconsideration or clarification (Petition) filed by the National Association of Telecommunications Officers and Advisors, the United States Conference of Mayors, the National League of Cities, the National Association of Counties, and the American Planning Association (Petitioner). The Petitioner asks the Federal Communications Commission (Commission) to reconsider or clarify its interpretation of provisions in Section 332(c)(7) of the Communications Act, as amended.

DATES: Interested parties may file oppositions on or before January 22, 2010, and replies on or before February 8, 2010.

ADDRESSES: You may submit comments, identified by WT Docket No. 08-165, by any of the following methods: (1) The Commission's Electronic Comment Filing System (ECFS), (2) the Federal Government's eRulemaking Portal, or (3) by filing paper copies. For detailed instructions for submitting comments and additional information on the rulemaking process, see the SUPPLEMENTARY INFORMATION section of this document.

FOR FURTHER INFORMATION CONTACT: Michael Rowan, Spectrum & Competition Policy Division, Wireless Telecommunications Bureau, Federal Communications Commission, 445 12th Street, SW., Washington, DC 20554.

SUPPLEMENTARY INFORMATION: This is a summary of the Commission's public notice in WT Docket No. 08-165 released December 23, 2009. The complete text of the public notice is available for public inspection and copying from 8 a.m. to 4:30 p.m. Monday through Thursday or from 8 a.m. to 11:30 a.m. on Friday at the FCC Reference Information Center, Portals II, 445 12th Street, SW., Room CY-A257, Washington, DC 20554. The public notice may also be purchased from the Commission's duplicating contractor, Best Copy and Printing, Inc. (BCPI), Portals II, 445 12th Street, SW., Room CY-B402, Washington, DC 20554, telephone (800) 378-3160, facsimile (301) 816-0169, e-mail FCC@BCPIWEB.com, or you may contact BCPI at its Web site: http://www.BCPIWEB.com. When ordering documents from BCPI please provide the appropriate FCC document number, DA 09-2629. The public notice is also available on the Internet at the Commission's Web site through its Electronic Document Management System (EDOCS): http://hraunfoss.fcc.gov/edocs_public/SilverStream/Pages/edocs.html.

Synopsis

On December 17, 2009, the National Association of Telecommunications Officers and Advisors, the United States Conference of Mayors, the National League of Cities, the National Association of Counties, and the American Planning Association filed a petition¹ requesting that the Commission reconsider or clarify its decision² interpreting provisions in Section 332(c)(7) of the Communications Act, as amended.³ Petitioners argue in their Petition that the Commission's adoption of a 30-day review period for local authorities to determine the completeness of a wireless facilities siting request exceeds its authority under its own interpretation, does not allow local authorities to toll the adopted time limits for other reasons, and will result in significant unintended consequences. The Petition also argues that the Commission did not provide affected parties the opportunity for input before adopting the 30-day review period.

¹ In the Matter of Petition for Declaratory Ruling to Clarify Provisions of Section 332(c)(7)(B) to Ensure Timely Siting Review and to Preempt under Section 253 State and Local Ordinances that Classify All Wireless Siting Proposals as Requiring a Variance, Petition for Reconsideration or Clarification, WT Docket No. 08-165, filed Dec. 17, 2009 (Petition).

² In the Matter of Petition for Declaratory Ruling to Clarify Provisions of Section 332(c)(7)(B) to Ensure Timely Siting Review and to Preempt under Section 253 State and Local Ordinances that Classify All Wireless Siting Proposals as Requiring a Variance, Declaratory Ruling, WT Docket No. 08-165, FCC 09-99 (Nov. 18, 2009).

³ 47 U.S.C. 332(c)(7).

Procedural Matters

All filings should reference the docket number of this proceeding, WT Docket No. 08-165.

This matter shall be treated as a “permit-but-disclose” proceeding in accordance with the Commission's ex parte rules.⁴ Persons making oral ex parte presentations are reminded that memoranda summarizing the presentations must contain summaries of the substance of the presentations and not merely a listing of the subjects discussed. More than a one- or two-sentence description of the views and arguments presented generally is required.⁵ Other rules pertaining to oral and written ex parte presentations in permit-but-disclose proceedings are set forth in § 1.1206(b) of the Commission's rules.⁶

⁴ See 47 CFR 1.1200, 1.1206.

⁵ See 47 CFR 1.1206(b).

⁶ 47 CFR 1.1206(b).

Comments may be filed using (1) the Commission's ECFS, (2) the Federal Government's eRulemaking Portal, or (3) by filing paper copies.⁷ Comments can be filed through the Commission's ECFS filing interface located at the following Internet address: http://www.fcc.gov/cgb/ecfs/. Comments can also be filed via the Federal eRulemaking Portal: http://www.regulations.gov.⁸ In completing the transmittal screen, commenters should include their full name, U.S. Postal Service mailing address, and the applicable docket or rulemaking number. Parties who choose to file by paper must file an original and four copies of each filing. If more than one docket or rulemaking number appears in the caption of this proceeding, filers must submit two additional copies for each additional docket or rulemaking number.

⁷ See Electronic Filing of Documents in Rulemaking Proceedings, 63 FR 24121 (1998).

⁸ Filers should follow the instructions provided on the Federal eRulemaking Portal Web site for submitting comments.

Filings can be sent by hand or messenger delivery, by commercial overnight courier, or by first-class or overnight U.S. Postal Service mail. All filings must be addressed to the Commission's Secretary, Office of the Secretary, Federal Communications Commission.

• Effective December 28, 2009, all hand-delivered or messenger-delivered paper filings for the Commission's Secretary must be delivered to FCC Headquarters at 445 12th St., SW., Room TW-A325, Washington, DC 20554. All hand deliveries must be held together with rubber bands or fasteners. Any envelopes must be disposed of before entering the building. Please Note: Through December 24, 2009, the Commission's contractor will receive hand-delivered or messenger-delivered paper filings for the Commission's Secretary at 236 Massachusetts Avenue, NE., Suite 110, Washington, DC 20002. This filing location will be permanently closed after December 24, 2009. The filing hours at both locations are 8 a.m. to 7 p.m.

• Commercial overnight mail (other than U.S. Postal Service Express Mail and Priority Mail) must be sent to 9300 East Hampton Drive, Capitol Heights, MD 20743.

• U.S. Postal Service first-class, Express, and Priority mail must be addressed to 445 12th Street, SW., Washington, DC 20554.

Comments filed in response to this public notice will be available for public inspection and copying during business hours in the FCC Reference Information Center, Portals II, 445 12th Street, SW., Room CY-A257, Washington, DC 20554, and via the Commission's ECFS by entering the docket number, WT Docket No. 08-165. The comments may also be purchased from Best Copy and Printing, Inc., telephone (800) 378-3160, facsimile (301) 816-0169, e-mail FCC@BCPIWEB.com.

People with Disabilities: To request materials in accessible formats for people with disabilities (Braille, large print, electronic files, audio format), send an e-mail to fcc504@fcc.gov or call the Consumer and Governmental Affairs Bureau at (202) 418-0530, (202) 418-0432 (TTY).

Federal Communications Commission.
Jane Jackson,
Associate Bureau Chief, Wireless Telecommunications Bureau.

[FR Doc. 2010-55 Filed 1-8-10; 8:45 am]

BILLING CODE 6712-01-P